DEPARTMENT OF ENERGY

Request for Public Comment on the 2020 National Electric Transmission Congestion Study

AGENCY: Office of Electricity, Department of Energy.

ACTION: Notice of public comment.

SUMMARY: The Department of Energy (Department) invites public comment on the 2020 National Electric Transmission Congestion Study (2020 Congestion Study) and is seeking comments on all aspects of the 2020 Congestion Study.

DATES: Comments must be received on or before November 23, 2020.

ADDRESSES: The study is available for review at http://energy.gov/oe/congestion-study. Written comments may be submitted electronically to 2020congestionstudy@hq.doe.gov. All comments will be posted and available to the public at http://energy.gov/oe/congestion-study. Written comments may also be delivered by conventional mail to David Meyer, Office of Electricity, U.S. Department of Energy, 1000 Independence Ave. SW, Washington, DC 20585. In light of the national emergency and personnel limitations, commenters are encouraged to submit comments electronically. Commenters are further cautioned that all conventional mail to the Department is subject to an automatic security screening process that may take several weeks and sometimes renders mailed material illegible.

FOR FURTHER INFORMATION CONTACT: Mr. David Meyer, Division of Transmission Permitting and Technical Assistance, Office of Electricity, at David.Meyer@hq.doe.gov, 202-586-3118.

SUPPLEMENTARY INFORMATION: Section 216(a) of the Federal Power Act, codified at 16 U.S.C. 824p(a), directs the Secretary of Energy to conduct an electric transmission congestion study every three years, and to prepare it in consultation with affected states and regional reliability organizations. Section 216(a) authorizes the Secretary to designate a geographic area in which a congestion study shows that consumers are being adversely affected by transmission constraints or congestion as a national interest electric transmission corridor. In the 2020 Congestion Study, the Department has not identified conditions that would merit proposing the designation of such a corridor (or corridors). Commenters, however, may believe that congestion is occurring in a specific area, and may wish to bring the area (or areas) to the Department's attention through their comments. The study is available for review at http://energy.gov/oe/congestion-study. All comments received will be made publicly available on http://energy.gov/oe/congestion-study. After reviewing and considering the public comments, the Department will prepare a report summarizing the comments and its responses to them, and indicating whether one or more national interest electric transmission corridors will be proposed.

Signing Authority

This document of the Department of Energy was signed on September 18, 2020, by Bruce J. Walker, Assistant Secretary, Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 18, 2020.
Treena V. Garrett,
Federal Register Liaison Officer, U.S. Department of Energy.

[FR Doc. 2020-21040 Filed 9-23-20; 8:45 am]

BILLING CODE 6450-01-P